DEPARTMENT OF HEALTH AND HUMAN SERVICES

Administration for Children and Families

[OMB No. 0970-0174]

Submission for OMB Review; Native Employment Works (NEW) Plan Guidance and NEW Program Report

AGENCY: Division of Tribal TANF Management, Office of Family Assistance, Administration for Children and Families, HHS.

ACTION: Request for public comment.

SUMMARY: The Administration for Children and Families (ACF) is requesting a 3-year extension of the form OFA-0086: NEW Plan Guidance and NEW Program Report (OMB #0970-0174, expiration 8/31/2022). There are minor changes requested to both documents.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The NEW Program Plan Guidance documents specify the information needed to complete a NEW program plan and explain the process for plan submission every third year and to complete the annual program report. The program plan is the application for NEW program funding and documents how the grantee will carry out its NEW program. ACF proposes a change in how draft plans are submitted. The program report provides HHS, Congress, and grantees information to document and assess the activities and accomplishments of the NEW program. ACF proposes to extend data collection with revisions that clarify that programs should not count more than once individuals who meet multiple categories; for example, persons age 20 are both youth and adults, but they should be counted as one or the other, not both.

Respondents: Indian tribes and tribal coalitions that operate NEW programs.

Annual Burden Estimates
Instrument | Total number of respondents (over 3 yrs.) | Annual number of responses per respondent | Average burden hours per response | Annual burden hours
NEW Program Plan Guidance | 40 | ¹.333 | 29 | 386
NEW Program Report | 40 | 1 | 15 | 600
Total Estimated Annual Burden |  |  |  | 986
¹ We have used .333 responses per year to represent one submission of the NEW Program Plan Guidance during the 3-year approval period.

Authority: 42 U.S.C. 612.

Mary B. Jones,
ACF/OPRE Certifying Officer.

[FR Doc. 2022-12424 Filed 6-8-22; 8:45 am]

BILLING CODE 4184-36-P